DEPARTMENT OF DEFENSE

Department of the Army, Corps of Engineers

National Wetland Plant List

AGENCY: U.S. Army Corps of Engineers, DoD.

ACTION: Notice.

SUMMARY: The National Wetland Plant List (NWPL) is used to delineate wetlands for purposes of the Clean Water Act and the Wetland Conservation Provisions of the Food Security Act. Other applications of the list include wetland restoration, establishment, and enhancement projects. To update the NWPL, the U.S. Army Corps of Engineers (Corps), as part of an interagency effort with the U.S. Environmental Protection Agency (EPA), the U.S. Fish and Wildlife Service (FWS) and the U.S. Department of Agriculture, Natural Resources Conservation Service (NRCS), is announcing the availability of the draft 2018 National Wetland Plant List (NWPL) and its web address to solicit public comments. The public will now have the opportunity to comment on the proposed update or addition of wetland indicator status ratings for 20 plant species in select Corps wetland regions.

DATES: Comments must be submitted on or before August 9, 2019.

ADDRESSES: U.S. Army Corps of Engineers, Attn: CECW-CO (Ms. Brianne McGuffie), 441 G Street NW, Washington, DC 20314-1000.

FOR FURTHER INFORMATION CONTACT: Ms. Brianne McGuffie, Headquarters, Operations and Regulatory Community of Practice, Washington, DC at 202-761-4750.

SUPPLEMENTARY INFORMATION: The U.S. Army Corps of Engineers (Corps) administers the National Wetland Plant List (NWPL) for the United States (U.S.) and its territories. Responsibility for the NWPL was transferred to the Corps from the U.S. Fish and Wildlife Service (FWS) in 2006. The Corps led interagency efforts to update the list in 2012, 2013, 2014, and 2016. The 2012 list contained 7,828 species, the 2013 list contained 7,937 species, the 2014 list contained 8,061 species, and the 2016 list contained 8,085 species. The 2018 draft NWPL is proposed to contain 8,093 species. Additions to and subtractions from these lists represent new records, range extensions, nomenclatural changes, and newly proposed species.

Wetland Indicator Status Ratings

On the NWPL, there are five categories of wetland indicator status ratings, used to indicate a plant's likelihood for occurrence in wetlands versus uplands (i.e., non-wetlands): Obligate Wetland (OBL), Facultative Wetland (FACW), Facultative (FAC), Facultative Upland (FACU), and Obligate Upland (UPL). These rating categories are defined by the National Panel as follows: OBL—almost always occur in wetlands; FACW—usually occur in wetlands, but may occur in non-wetlands; FAC—occur in wetlands and non-wetlands; FACU—usually occur in non-wetlands, but may occur in wetlands; UPL—almost always occur in non-wetlands. These category definitions are qualitative descriptions that better reflect the qualitative supporting information, rather than numeric frequency ranges. The percentage frequency categories used in the older definitions are only used for testing problematic or contested species being recommended for indicator status changes. Plus and minus designations and wetland indicator designations such as No Indicator (NI), No Occurrence (NO), and No Agreement (NA) are no longer used on the NWPL. When assigning wetland indicator status ratings, commenters should use the rating definitions described above and developed by the National Panel for updating the NWPL.

For the purposes of determining how often a species occurs in wetlands, wetlands are defined as those areas that are inundated or saturated by surface or ground water at a frequency and duration sufficient to support, and under normal circumstances do support, a prevalence of vegetation typically adapted for life in saturated soil conditions (33 CFR 328.3 and 40 CFR 230.3). Such wetlands are identified using the Corps 1987 Wetland Delineation Manual or relevant regional supplements, whichever is more recent. Wetlands are identified using the three-factor approach. Because each species being evaluated occurs as part of a vegetation assemblage, examining the other species present in relation to their assigned wetland fidelity may be useful in assessing hydrophytic vegetation.

2018 Update Information

For the 2018 NWPL update, the NWPL National Panel (NP) and Regional Panels (RPs) reviewed proposed wetland rating changes or additions for 20 species and 37 regional ratings (some species were reviewed for multiple regions) submitted by the general public. Eight of these species were proposed for addition to the NWPL, and 12 species were submitted for a rating change request in one or more regions. Submitted information was reviewed by the NP and RPs, and proposed 2018 ratings for these species were determined, as detailed below. Note that all submitted species are included here, regardless of whether or not the NP and RPs proposed a rating change. Hence, for those species where the current and proposed ratings are the same, a rating change request was submitted, but after review of the submitted information no rating change is being proposed for the 2018 update.

Species | Region(s) | Current 2016 rating * | Proposed 2018 rating
Aristida palustris | AGCP | NOL | FACW.
Artemisia dracunculus | AW, WMVC | NOL | FACU.
Bassia hyssopifolia | AW | FACU | FACU.
Bromus nottowayanus | MW, NCNE | NOL | FACU.
Delairea odorata | AW, WMVC | NOL | FAC.
Dichanthelium wrightianum | AGCP | NOL | FACW.
Epilobium brachycarpum | AW, WMVC | NOL | FAC.
Hymenocallis latifolia | AGCP, CB | FACW | FACU.
Hymenocallis occidentalis | AGCP, EMP, GP, MW | OBL/FACW | FAC.
Ilex opaca | AGCP | FAC | FAC.
Iva axillaris | AW, WMVC | FAC | FACU.
Liriodendron tulipifera | AGCP, EMP | FACU | FACU.
Penstemon rydbergii | AW, WMVC | FACU | FACU.
Pleopeltis polypodioides | AGCP | FAC | UPL.
Polymnia canadensis | EMP, MW, NCNE | NOL | FACU.
Pycnanthemum muticum | EMP | FAC | FACU.
Quercus michauxii | AGCP | FACW | FACW.
Tussilago farfara | NCNE | FACU | FACU.
Verbena brasiliensis | AGCP, EMP, MW | NOL | FACU.
Verbena incompta | AGCP, EMP, MW | FACW/FAC | FACU.
* NOL = “Not On List ” and indicates proposed additions.

Instructions for Providing Comments Online

The Corps encourages public input in the form of data, comments, literature references, or field experiences, to help clarify the status of the species reviewed for this update. The list of these same 20 reviewed species, and their draft 2018 wetland ratings by region, can be viewed at the NWPL homepage, http://wetland-plants.usace.army.mil/ under “2018 NWPL Update Information.” A link to provide general or species-specific comments is also available at this location. Users are encouraged to submit literature citations, herbaria records, experiential references, monitoring data, and other relevant information. Specific knowledge of, or studies related to, individual species are particularly helpful. Commenters should use their regional botanical and ecological expertise, field observations, reviews of the most recent indicator status information, appropriate botanical literature, floras, herbarium specimens with notation of habitat and associated species, habit data, relevant studies, and historic list information. Guessing ratings is inappropriate. All submitted comments and information will be compiled and sent to the National Panel for their consideration.

The Corps is also seeking comments on the NWPL update process. Detailed information on the update process, protocol, and technical issues can be found in the following documents (available on the NWPL Publications web page):

• Lichvar, Robert W. and Minkin, Paul. Concepts and Procedures for Updating the National Wetland Plant List. Sept 2008. ERDC/CRREL TN-08-3

• Lichvar, Robert W. and Gillrich, Jennifer J. Final Protocol for Assigning Wetland Indicator Status Ratings during National Wetland Plant List Update. Sept 2011. ERDC/CRREL TN-11-1

Future Actions

Future updates to the NWPL will occur biennially. A change in indicator status for a given species, or a proposed species addition, may be requested at any time at http://wetland-plants.usace.army.mil/ under “Submit NWPL Change Request.” Submissions will be compiled and reviewed prior to each NWPL update, and resulting changes will be reflected in the subsequent updated list.

Dated: June 2, 2019.
Thomas P. Smith,
Chief, Operations and Regulatory Division, Directorate of Civil Works.

[FR Doc. 2019-12129 Filed 6-7-19; 8:45 am]

BILLING CODE 3720-58-P